FEDERAL COMMUNICATIONS COMMISSION

Sunshine Act Meeting; Deletion of Agenda Items; From October 12, 2006, Open Meeting and FCC to Hold an Additional Open Meeting, Friday, October 13, 2006, at 11 a.m.

October 11, 2006.

The following items have been deleted from the list of Agenda items scheduled for consideration at the Thursday, October 12, 2006, open meeting and previously listed in the Commission's Notice of Thursday, October 5, 2006. These items will be considered at an additional open meeting scheduled for Friday, October 13, 2006, at 11 a.m. in the Commission Meeting Room, TW-C305, at 445 12th Street, SW., Washington, DC.

Item no. | Bureau | Subject
4 | Wireline Competition | Title: AT&T Inc. and BellSouth Corporation Application for Transfer of Control (WC Docket No. 06-74).
|  | Summary: The Commission will consider a Memorandum Opinion and Order regarding the transfer of control application of AT&T and BellSouth.
5 | Wireline Competition | Title: Broadband Industry Practices.
|  | Summary: The Commission will consider a Notice of Inquiry regarding broadband industry practices.

The prompt and orderly conduct of Commission business permits less than 7-days notice be given.

Federal Communications Commission.
Marlene H. Dortch,
Secretary.

[FR Doc. 06-8726 Filed 10-12-06; 12:05 pm]

BILLING CODE 6712-01-P